DEPARTMENT OF LABOR

Employment and Training Administration

[TA-W-82,750]

Boise White Paper, LLC; a Subsidiary of Boise, Inc.; Including Workers Whose Unemployment Insurance (UI) Wages are Reported Through MDW Railroad, Including On-Site Leased Workers From Bartlett & Associates International Falls, Minnesota; Amended Certification Regarding Eligibility To Apply for Worker Adjustment Assistance

In accordance with Section 223 of the Trade Act of 1974, as amended (“Act”), 19 U.S.C. 2273, the Department of Labor issued a Certification of Eligibility to Apply for Worker Adjustment Assistance on July 3, 2013, applicable to workers of Boise White Paper, LLC, a subsidiary of Boise, Inc., including on-site leased workers from Bartlett & Associates, International Falls, Minnesota. The workers are engaged in activities related to the production of paper (uncoated and coated free sheet). The notice was published in the Federal Register on August 8, 2013 (78 FR 48470).

At the request of Minnesota State, the Department reviewed the certification for workers of the subject firm. New information from the company shows that some workers separated from employment at the International Falls, Minnesota location of Boise White Paper, LLC, a subsidiary of Boise, Inc. had their wages reported through a separate unemployment insurance (UI) tax account under the name MDW Railroad.

Accordingly, the Department is amending this certification to include workers of the subject firm whose unemployment insurance (UI) wages are reported through MDW Railroad.

The intent of the Department's certification is to include all workers of the subject firm who were adversely affected by increased imports of paper.

The amended notice applicable to TA-W-82,750 is hereby issued as follows:

All workers of Boise White Paper, LLC, a subsidiary of Boise, Inc., including workers whose unemployment insurance (UI) wages are reported through MDW Railroad, including on-site leased workers from Bartlett & Associates, International Falls, Minnesota, who became totally or partially separated from employment on or after May 17, 2012, through July 3, 2015, and all workers in the group threatened with total or partial separation from employment on date of certification through two years from the date of certification, are eligible to apply for adjustment assistance under Chapter 2 of Title II of the Trade Act of 1974, as amended.

Signed at Washington, DC, this 15th day of January 2014.
Michel W. Jaffe,
Certifying Officer, Office of Trade Adjustment Assistance.

[FR Doc. 2014-01542 Filed 1-27-14; 8:45 am]

BILLING CODE 4510-FN-P